DEPARTMENT OF COMMERCE

National Oceanic and Atmospheric Administration

National Estuarine Research Reserve System

AGENCY: Estuarine Reserves Division, Office of Ocean and Coastal Resource Management, National Ocean Service, National Oceanic and Atmospheric Administration, U.S. Department of Commerce.

ACTION: Notice of Public Comment Period for the Revised Management Plan for the Chesapeake Bay Virginia National Estuarine Research Reserve.

SUMMARY: Notice is hereby given that the Estuarine Reserves Division, Office of Ocean and Coastal Resource Management, National Ocean Service, National Oceanic and Atmospheric Administration (NOAA), U.S. Department of Commerce is announcing a thirty day public comment period on the Chesapeake Bay Virginia National Estuarine Research Reserve Management Plan Revision.

Four sites along the York River comprise the Chesapeake Bay Virginia National Estuarine Research Reserve; Sweet Hall Marsh, Taskinas Creek, the Catlett Islands, and the Goodwin Islands. The fours sites were designated as the Chesapeake Bay Virginia National Estuarine Research Reserve in 1991 pursuant to Section 315 of the Coastal Zone Management Act of 1972, as amended, 16 U.S.C. 1461. The reserve has been operating in partnership with the Virginia Institute of Marine Science under a management plan approved in 1991. Pursuant to 15 CFR section 921.33(c), a state must revise their management plan every five years. The submission of this plan fulfills this requirement and sets a course for successful implementation of the goals and objectives of the reserve. A boundary expansion, a revised geographic vision for the reserve, new facilities, and updated programmatic objectives are notable revisions to the 1991 approved management plan.

The revised management plan outlines the administrative structure; the education, stewardship, and research goals of the reserve; and the plans for future land acquisition and facility development to support reserve operations. This management plan describes how the strengths of the reserve will focus on four areas relevant to the Chesapeake Bay: functions and linkages of land-margin ecosystems; ecosystem vulnerability to climate and human-induced stressors; water quality and aquatic stressors; and integrated ocean observing systems.

Since 1991, the reserve has added a coastal training program that delivers science-based information to key decision makers in the Chesapeake Bay; has completed a site profile that characterizes the reserve; and has expanded the monitoring, stewardship and education programs significantly. A new administrative building (2003) and a new science and education lab (2005) have been built to support the growth of reserve programs.

With the approval of this management plan, the Chesapeake Bay Virginia National Estuarine Research Reserve will change their total acreage from 2,849 acres to a new total of 2,705 acres. This change is attributable to boundary modifications at two of the reserve sites. At Sweet Hall Marsh, 189 acres of reserve property are being removed from the reserve boundary due to a change in ownership. At the Taskinas Creek site, 44.5 acres are being added to the reserve boundary to provide a deciduous and hardwood forest buffer to protect the estuarine areas used for research and education.

The 1991 Management Plan proposed a multi-phased expansion of the reserve that started with the four sites on the York River and planned to incorporate over 20 sites throughout Virginia to ensure adequate representation of Virginian estuarine areas important to the Chesapeake Bay. This expansion has not occurred since 1991. Due to the anticipated logistical, economic, and programmatic difficulties of having over 20 sites administered as part of the National Estuarine Research Reserve, the 2008 Management Plan focuses on the York River for the next five years.

FOR FURTHER INFORMATION CONTACT: Michael Migliori at (301) 563-1126 or Laurie McGilvray at (301) 563-1158 of NOAA's National Ocean Service, Estuarine Reserves Division, 1305 East-West Highway, N/ORM5, 10th floor, Silver Spring, MD 20910. For copies of the Chesapeake Bay Virginia Management Plan revision, visit http://web.vims.edu/cbnerr/index.htm.

Dated: October 29, 2008.
David M. Kennedy,
Director, Office of Ocean and Coastal Resource Management, National Oceanic and Atmospheric Administration.

[FR Doc. E8-26338 Filed 11-4-08; 8:45 am]

BILLING CODE 3510-08-P